DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below:

List of Petition Action by Trade Adjustment Assistance for Period October 19, 2002—November 22, 2002
Firm name | Address | Date petition accepted | Product
Mutual Tool & Die, Inc | 725 Lilac Avenue, Dayton, OH 45427 | 10/31/02 | Jigs, fixtures and tools for metal working.
Wenger Manufacturing, Inc | 714 Main Street, Sebetha, KS 66534 | 11/06/02 | Extrusion parts and machinery for the food products industry.
Pharr Brand Name Apparel, LLC | 1300 Maco Drive, Pharr, TX 78577 | 11/06/02 | Leather Jackets.
Warnke Tool Industries, Inc | 3287 Metamora Road, Oxford, MI 48371 | 11/14/02 | Jigs, fixtures and tools for metal working.
Max Hats Ltd., dba West Penn Hat & Cap Corporation | 100 Treadway Lane, Creighton, PA 15030 | 11/18/02 | Hats and caps.
C W Industries | 130 James Way, Southampton, PA 18966 | 11/20/02 | Electrical connectors used in the appliance industry.
Lima Plastics, Inc | 1130 W. Elizabeth Ave., Linden, NJ 07036 | 11/20/02 | Lipstick cases, small talc containers and powder boxes, nail polish caps, and misc. cosmetic containers, boxes, and cases.
Modern Alpha Plastics, Inc | 1026 South Powell Road, Independence, MO 64056 | 11/20/02 | Plastic fittings for the automotive industry.
Burgess Manufacturing, Inc | 3443 North Topeka Street, Wichita, KS 67219 | 11/20/02 | Wooden boxes, cases and crates.
Great Western Nav. E. & L. Company | P.O. Box 74, Chignik, AK 99564 | 11/20/02 | Salmon.
Lady Launi, Inc | 2120 41st Street, Anacortes, WA 98221 | 11/20/02 | Salmon.
All In One, Inc | P.O. Box 22 Hilltop Dr., Chignik, AK 99564 | 11/20/02 | Salmon.
Alpha Products, Inc | 5570 West 70th Place, Chicago, IL 60638 | 11/22/02 | Stamped metal loudspeaker components.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: November 22, 2002.
Anthony J. Meyer,
Coordinator, Trade Adjustment and Technical Assistance.

[FR Doc. 02-30215 Filed 11-27-02; 8:45 am]

BILLING CODE 3510-24-P